DEPARTMENT OF STATE

[Public Notice: 12817]

Notice of Public Meeting in Preparation for International Maritime Organization MEPC/ES.2.

The Department of State will conduct a public meeting at 9:30 a.m. on Tuesday, October 28, 2025, both in-person at Coast Guard Headquarters in Washington, DC, and via teleconference through Microsoft Teams. The primary purpose of the meeting is to prepare for the International Maritime Organization's (IMO) 34th Session of the Assembly (A 34) to be held at IMO Headquarters in London, United Kingdom from Monday, November 24, 2025, to Wednesday, December 03, 2025.

Members of the public may participate up to the capacity of the teleconference line, which can handle 500 participants or up to the seating capacity of the room if attending in-person. The meeting location will be the United States Coast Guard Headquarters, and the teleconference line will be provided to those who RSVP. To RSVP, participants should contact the meeting coordinator, LCDR Emily Sysko, by email at LCDR Emily.T.Sysko@uscg.mil. LCDR Sysko will provide access information for in-person and virtual attendance.

The agenda items to be considered at A 34 include:

—Adoption of the agenda;

—Rules of Procedure of the Assembly;

—Election of the President and the Vice-Presidents of the Assembly;

—Application of Article 61 of the IMO Convention—Report of the Council to the Assembly on any requests by Members for waiver;

—Establishment of the committees of the Assembly;

—Consideration of the reports of the committees of the Assembly;

—Report of the Council to the Assembly on the work of the Organization since the thirty-third regular session of the Assembly;

—Strategy, planning and reform

—IMO Member State Audit Scheme;

—Consolidated text of the IMO Convention;

—Enhancement of Multilingualism;

—Consideration of the reports and recommendations of the Maritime Safety Committee;

—Consideration of the reports and recommendations of the Legal Committee;

—Consideration of the reports and recommendations of the Marine Environment Protection Committee;

—Consideration of the reports and recommendations of the Technical Cooperation Committee;

—Consideration of the reports and recommendation of the Facilitation Committee;

—Convention on the Prevention of Marine Pollution by Dumping of Wastes and Other Matter, 1972 and the 1996 Protocol thereto: report on the performance of Secretariat functions and other duties;

—Resource management;

—IMO Number Scheme;

—Global maritime training institutions;

—External relations; report on the status of the conventions;

—Election of Member of the Council, as provided for in Articles 16 and 17 of the IMO Convention;

—Election of Member of the IMO Staff Pension Committee;

—Date and place of the thirty fifth regular session of the Assembly;

—Supplementary agenda items.

Please note: The IMO may, on short notice, adjust the A 34 agenda to accommodate the constraints associated with the virtual meeting format. Although no changes to the agenda are anticipated, if any are necessary, they will be provided to those who RSVP.

Those who plan to participate may contact the meeting coordinator, LCDR Emily Sysko, by email at Emily.T.Sysko@uscg.mil or by phone at 202-372-1376 or in writing at 2703 Martin Luther King Jr. Ave. SE, ATTN: LCDR Emily Sysko, 2703 Martin Luther King Jr. Ave. SE, Stop 7509, Washington, DC 20593-7509, by October 16, 2025. Members of the public needing reasonable accommodation should advise LCDR Emily Sysko no later than October 16, 2025. Requests made after that date will be considered but might not be possible to fulfill.

Additional information regarding this and other IMO public meetings may be found at: https://www.dco.uscg.mil/IMO.

(Authority: 22 U.S.C. 2656 and 5 U.S.C. 552.)

Emily C. Miletello,
Coast Guard Liaison Officer, Office of Ocean and Polar Affairs, Department of State.

[FR Doc. 2025-17234 Filed 9-8-25; 8:45 am]

BILLING CODE 4710-09-P